OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Executive Resources Services Group, Center for Performance Management Systems and Evaluation, Division for Human Capital Leadership and Merit System Accountability, 202-606-2246.

SUPPLEMENTARY INFORMATION: Appearing in the listing below are the individual authorities established under Schedules A, B, and C between September 1, 2009, and September 30, 2009. These notices are published monthly in the Federal Register at http://www.gpoaccess.gov/fr/. A consolidated listing of all authorities as of June 30 is also published each year. The following Schedules are not codified in the code of Federal Regulations. These are agency specific exceptions.

Schedule A

Section 213.3111(d) Department of Homeland Security

(1) Not to exceed 1000 positions to perform cyber risk and strategic analysis, incident handling and malware/vulnerability analysis, program management, distributed control systems security, cyber incident response, cyber exercise facilitation and management, cyber vulnerability detection and assessment, network and systems engineering, enterprise architecture, intelligence analysis, investigation, investigative analysis and cyber-related infrastructure interdependency analysis requiring unique qualifications currently not established by OPM. Positions will be at the General Schedule (GS) grade levels 09-15. No new appointments may be made under this authority after December 31, 2012.

Schedule B

No Schedule B authorities to report during September 2009.

Schedule C

The following Schedule C appointments were approved during September 2009.

Department of State

DSGS69970 Public Affairs Specialist to the Assistant Secretary for Public Affairs. Effective September 8, 2009.

DSGS70046 Special Assistant to the Ambassador-At-Large for Global Women's Initiatives. Effective September 23, 2009.

DSGS69886 Assistant to the Chief of Protocol. Effective September 29, 2009.

DSGS69920 Staff Assistant to the Assistant Secretary for Near Eastern and South Asian Affairs. Effective September 29, 2009.

DSGS69923 Assistant Chief of Protocol, Ceremonials. Effective September 29, 2009.

DSGS70030 Staff Assistant to the Assistant Secretary for Public Affairs. Effective September 29, 2009.

DSGS70038 Senior Advisor to the Under Secretary for Management. Effective September 29, 2009.

DSGS69928 Legislative Management Officer to the Assistant Secretary for Legislative and Intergovernmental Affairs. Effective September 30, 2009.

Department of the Treasury

DYGS00506 Special Assistant to the Senior Advisor. Effective September 17, 2009.

Department of Defense

DDGS17254 Defense Fellow to the Special Assistant for White House Liaison. Effective September 4, 2009.

DDGS17255 Special Assistant to the Assistant Secretary for Defense (Special Operations/Low Intensity Conflict/Interdependent Capabilities). Effective September 14, 2009.

DDGS17257 Public Affairs Specialist to the Principal Deputy Assistant Secretary of Defense for Public Affairs. Effective September 23, 2009.

DDGS17256 Associate Director for New Media to the Principal Deputy Assistant Secretary of Defense for Public Affairs. Effective September 25, 2009.

DDGS17258 taff Assistant to the Special Assistant to the Secretary of Defense for White House Liaison. Effective September 25, 2009.

Department of Justice

DJGS00545 Senior Counsel to the Assistant Attorney General (Legal Policy). Effective September 4, 2009.

Department of Homeland Security

DMGS00786 Legislative Assistant to the Assistant Secretary for Legislative Affairs. Effective September 15, 2009.

DMGS00837 Chief of Staff to the Assistant Secretary for Health Affairs and Chief Medical Officer. Effective September 29, 2009.

Department of the Interior

DIGS00545 Assistant Director, Communications to the Director, National Park Service. Effective September 3, 2009.

DIGS01170 Special Assistant to the Director, Minerals Management Service. Effective September 8, 2009.

DIGS01173 Special Assistant to the Director, Congressional and Legislative Affairs. Effective September 17, 2009.

DIGS01171 Deputy Press Secretary/Hispanic Outreach to the Director, Office of Communications. Effective September 22, 2009.

DIGS01174 Special Assistant to the Assistant Secretary of Land and Minerals Management. Effective September 25, 2009.

DIGS01172 Special Assistant to the Assistant Secretary for Fish and Wildlife and Parks. Effective September 30, 2009.

Department of Agriculture

DAGS00177 Senior Advisor to the Administrator, Animal and Plant Health Inspection Service. Effective September 3, 2009.

DAGS00178 Special Assistant to the Under Secretary for Farm and Foreign Agricultural Services. Effective September 8, 2009.

DAGS00175 Senior Advisor to the Administrator, Animal and Plant Health Inspection Service. Effective September 15, 2009.

DAGS00180 Special Assistant to the Administrator, Farm Service Agency. Effective September 22, 2009.

DAGS00181 Special Assistant to the Administrator, Foreign Agricultural Service. Effective September 22, 2009.

Department of Commerce

DCGS00687 Senior Policy Advisor to the Director, Office of Policy and Strategic Planning. Effective September 16, 2009.

DCGS00189 Special Assistant to the Director, Executive Secretariat. Effective September 18, 2009.

DCGS00428 Deputy Director to the Director, Office of White House Liaison. Effective September 21, 2009.

DCGS00237 Executive Assistant to the Deputy Secretary. Effective September 23, 2009.

DCGS00380 Confidential Assistant to the Assistant Secretary for Manufacturing and Services. Effective September 23, 2009.

DCGS00386 Special Assistant to the Deputy Secretary. Effective September 23, 2009.

DCGS00689 Chief Communications Officer to the Under Secretary of Commerce of Intellectual Property for the U.S. Patent and Trademark Office. Effective September 28, 2009.

DCGS00275 Special Assistant to the Assistant Secretary for Economic Development. Effective September 30, 2009.

DCGS60291 Deputy Director of Public Affairs to the Senior Advisor and Director of Public Affairs. Effective September 30, 2009.

Department of Labor

DLGS60211 Special Assistant to the Director of Recovery for Auto Communities and Workers. Effective September 4, 2009.

DLGS60074 Special Assistant to the Deputy Assistant Secretary. Effective September 11, 2009.

DLGS60212 Special Assistant to the Director of Public Engagement. Effective September 17, 2009.

DLGS60239 Special Assistant to the Director of Recovery for Auto Communities and Workers. Effective September 17, 2009.

Department of Health and Human Services

DHGS60467 Outreach Coordinator (Office of Health Reform) to the Principal Deputy Assistant Secretary for Planning and Evaluation. Effective September 3, 2009.

DHGS60364 Senior Advisor to the Assistant Secretary for Legislation. Effective September 11, 2009.

DHGS60625 Chief Press Officer to the Principal Deputy Commissioner, Food and Drug Administration. Effective September 11, 2009.

DHGS60674 Confidential Assistant to the Assistant Secretary for Aging (Commissioner). Effective September 11, 2009.

DHGS60294 Confidential Assistant to the Commissioner, Administration for Children, Youth and Families. Effective September 17, 2009.

DHGS00491 White House Liaison for Political Personnel, Boards and Commissions. Effective September 24, 2009.

DHGS60468 Speechwriter to the Principal Deputy Assistant Secretary for Planning and Evaluation. Effective September 24, 2009.

Department of Education

DBGS00290 Special Assistant to the Assistant Secretary for Vocational and Adult Education. Effective September 8, 2009.

DBGS00596 Associate Assistant Deputy Secretary to the Assistant Deputy Secretary for Innovation and Improvement. Effective September 8, 2009.

DBGS00635 Special Assistant to the Chief of Staff. Effective September 8, 2009.

DBGS00246 Confidential Assistant to the Assistant Secretary for Vocational and Adult Education. Effective September 18, 2009.

DBGS00081 Special Assistant to the Chief of Staff. Effective September 29, 2009.

DBGS00282 Confidential Assistant to the Assistant Deputy Secretary for Safe and Drug-Free Schools. Effective September 29, 2009.

DBGS00322 Confidential Assistant to the Assistant Deputy Secretary for Safe and Drug-Free Schools. Effective September 29, 2009.

Environmental Protection Agency

EPGS06009 Press Secretary to the Associate Administrator for Public Affairs. Effective September 2, 2009.

EPGS60081 Director of Advance to the Chief of Staff. Effective September 2, 2009.

EPGS04029 Special Assistant to the Chief of Staff. Effective September 8, 2009.

EPGS09011 Advance Specialist to the Director of Advance. Effective September 8, 2009.

EPGS06036 Supervisory Public Affairs Specialist to the Associate Administrator for Public Affairs. Effective September 9, 2009.

Department of Veterans Affairs

DVGS60032 Director, Center for Faith Based Community Initiatives to the Secretary of Veterans Affairs. Effective September 14, 2009.

DVGS60002 Special Assistant to the Assistant Secretary for Public and Intergovernmental Affairs. Effective September 18, 2009.

Department of Energy

DEGS00769 Special Assistant to the Senior Advisor. Effective September 1, 2009.

DEGS00771 Speechwriter to the Director, Office of Public Affairs. Effective September 21, 2009.

Small Business Administration

SBGS00002 Chief Information Officer to the Chief Operating Officer. Effective September 18, 2009.

General Services Administration

GSGS00087 Special Assistant to the Regional Administrator. Effective September 8, 2009.

GSGS00132 Special Assistant to the Regional Administrator. Effective September 14, 2009.

GSGS01432 Special Assistant to the Associate Administrator for Governmentwide Policy. Effective September 15, 2009.

GSGS01430 Special Assistant to the Regional Administrator. Effective September 18, 2009.

GSGS01431 Special Assistant to the Regional Administrator. Effective September 18, 2009.

GSGS60127 Associate Administrator to the Administrator for Small Business Utilization. Effective September 18, 2009.

Commission on Civil Rights

CCGS60010 Special Assistant to a Commissioner. Effective September 14, 2009.

National Credit Union Administration

CUOT01370 Senior Policy Advisor to the Chairman. Effective September 8, 2009.

Federal Maritime Commission

MCGS60043 Counsel to the Chairman. Effective September 23, 2009.

National Endowment for the Humanities

NHGS09001 Senior Advisor to the Chairman. Effective September 10, 2009.

National Mediation Board

NMGS60053 Confidential Assistant to a Board Member. Effective September 15, 2009.

NMGS60056 Confidential Assistant to a Board Member. Effective September 15, 2009.

Department of Transportation

DTGS60452 Associate Director, ITS Strategy and Technology Projects to the Chief Information Officer. Effective September 2, 2009.

Authority: 5 U.S.C. 3301 and 3302; E.O. 10577, 3 CFR 1954-1958 Comp., p. 218.

U.S. Office of Personnel Management.
John Berry,
Director.

[FR Doc. E9-26386 Filed 11-2-09; 8:45 am]

BILLING CODE 6325-39-P